DEPARTMENT OF AGRICULTURE

Forest Service

Shasta County Resource Advisory Committee (RAC)

AGENCY: Forest Service, USDA.

ACTION: Notice of meeting.

SUMMARY: The Shasta County Resource Advisory Committee (RAC) will meet on May 28, 2003, in Anderson, CA. The purpose of the meeting will be to receive updates about funded projects, to form working committees, and the future of RAC appointments.

DATES: The meeting will be held on May 28, 2003, from 8 a.m. to noon.

ADDRESSES: The meeting will be held at Sierra Pacific Industries, 19794 Riverside Avenue, Anderson, CA—off Oxyoke Road between Interstate-5 and Highway 273.

FOR FURTHER INFORMATION CONTACT: Deb Romberger, Designated Federal Official, USDA Forest Service, (530) 336-5521. E-mail: dromberger@fs.fed.us.

SUPPLEMENTARY INFORMATION: The meeting is open to the public. Discussion is limited to Forest Service staff and committee members. However, time will be provided for public input, giving individuals the opportunity to address the committee.

Dated: May 7, 2003.
J. Sharon Heywood,
Forest Supervisor.

[FR Doc. 03-11973 Filed 5-13-03; 8:45 am]

BILLING CODE 3410-11-M